Title 3—

The President

Proclamation 9331 of September 28, 2015

National Arts and Humanities Month, 2015

By the President of the United States of America

A Proclamation

Over centuries of change—through trial and triumph—the arts and humanities have chronicled history in ways that have brought the past to life and provided a vivid vision for our journey forward. Today, we continue to live in an ever-changing world, and the arts and humanities help us experience it in truer colors and tones. When we harness our artistic creativity—from canvases to concertos—we can give shape to our emotions and channel our innermost hopes. During National Arts and Humanities Month, we celebrate artistic expression in all its forms and honor the ways they help define the great American story.

America's future is bright—and our Nation's spirit of reinvention has long allowed us to pursue progress that knows no bounds. The arts and humanities generate opportunities for us to individually and collectively reflect on our beliefs and disrupt our assumptions. As artists open our hearts and minds, they embolden our dreams, connect us in common purpose, and inspire us to reach for the tomorrow we seek.

As our society progresses, we must never underestimate the power of young minds, and as a Nation we must give our daughters and sons every opportunity to grow, thrive, and explore the heights of their imagination. If we continue to instill in them the optimism of America's promise—that all things are possible for all people—they will grow up believing, as they should, that nothing is out of their reach. More than anyone, our young people have the ability to renew the world we share, and my Administration is dedicated to empowering them through the arts and humanities so they can chart bold paths and write America's next great chapters.

Every stroke of the brush, stitch of the needle, or moment of the memoir uniquely marks our society and contributes to our national character. This month, we recognize the ways the arts and humanities have forever changed our country, and we recommit to ensuring every American has the opportunity and the freedom to question, discover, and create.

NOW, THEREFORE, I, BARACK OBAMA, President of the United States of America, by virtue of the authority vested in me by the Constitution and the laws of the United States, do hereby proclaim October 2015 as National Arts and Humanities Month. I call upon the people of the United States to observe this month with appropriate ceremonies, activities, and programs to celebrate the arts and the humanities in America.

IN WITNESS WHEREOF, I have hereunto set my hand this twenty-eighth day of September, in the year of our Lord two thousand fifteen, and of the Independence of the United States of America the two hundred and fortieth.

[FR Doc. 2015-25206

Filed 9-30-15; 11:15 am]

Billing code 3295-F6-P